DEPARTMENT OF HEALTH AND HUMAN SERVICES

Agency for Toxic Substances and Disease Registry

[ATSDR-181]

Public Health Assessments Completed

AGENCY: Agency for Toxic Substances and Disease Registry (ATSDR), Department of Health and Human Services (HHS).

ACTION: Notice.

SUMMARY: This notice announces those sites for which ATSDR has completed public health assessments during the period from January 2002 through March 2002. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE, Mailstop E-32, Atlanta, Georgia 30333, telephone (404) 498-0007.

SUPPLEMENTARY INFORMATION: The most recent list of completed public health assessments was published in the Federal Register on February 22, 2002 [67 FR 8266]. This announcement is the responsibility of ATSDR under the regulation, Public Health Assessments and Health Effects Studies of Hazardous Substances Releases and Facilities [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assessments Completed or Issued

Between January 2002 and March 2002, public health assessments were issued for the sites listed below. Also included in this Federal Register Notice are public health assessments that were issued and are available for the following sites from the period of June 2001 through December 2001.

NPL Sites

Guam

Anderson Air Force Base (PB2002-102182).

Illinois

Gulf Mobile and Ohio Rail Yard (a/k/a Mobile and Ohio Railroad and Former GreenBerg Salvage Site) (PB2002-102745).

Southeast Rockford Groundwater Contamination (a/k/a Southeast Rockford Ground Water Contamination) (PB2002-102183).

Minnesota

Fridley Commons Well Field (a/k/a Fridley Commons Park Well Field) (PB2002-101743).

Montana

Upper Tenmile Creek Mining Area (PB2002-102677).

New Jersey

Iceland Coin Laundry Site (a/k/a Iceland Coin Laundry Area Groundwater Plume) (PB2002-101742).

Oklahoma

Imperial Refining Company (PB2002-101488).

Pennsylvania

Molycorp Incorporated (PB2002-102499).

Non NPL Petitioned Sites

None.

Dated: May 3, 2002.
Donna Garland,
Deputy Director, Office of Policy and External Affairs, Agency for Toxic Substances and Disease Registry.

[FR Doc. 02-11556 Filed 5-8-02; 8:45 am]

BILLING CODE 4163-70-P